DEPARTMENT OF DEFENSE

Office of the Secretary

Meeting of the Advisory Council on Dependents' Education

AGENCY: Department of Defense Education Activity (DoDEA).

ACTION: Notice of meeting.

SUMMARY: Notice is hereby given that a meeting of the Advisory Council on Dependents' Education (ACDE) is scheduled to be held from 8 a.m. to 5 p.m. on Thursday, May 4, 2000. The meeting will be open to the public and will be held in the 9th floor conference room at the Department of Defense Education Activity, 4040 North Fairfax Drive, Arlington, Virginia 22203-1635. The purpose of the Council is to recommend to the Director, Department of Defense Education Activity (DoDEA), general policies for operation of the Defense dependents' education system; to provide the Director with information about effective educational programs and practices that should be considered by DoDEA; and to perform other tasks as may be required by the Secretary of Defense. The focus of this meeting will be the new DoDEA Community Strategic Plan for 2001-2006, DoDEA organizational changes, and a recap of issues discussed at the October 1999 meeting. These issues include (1) the development of an individual plan for each student in conjunction with counseling on post-school opportunities, (2) coordination of on-going initiatives within DoDEA, and (3) a review of the best practices in the use of technology in DoDEA. For further information contact Ms. Polly Purser, at 703-696-4235, extension 1911.

Dated: March 29, 2000.
L.M. Bynum,
Alternate OSD Federal Register Liaison Officer, Department of Defense.

[FR Doc. 00-8178 Filed 4-3-00; 8:45 am]

BILLING CODE 5001-10-M